DEPARTMENT OF HOMELAND SECURITY

Coast Guard

[USCG-2006-26298)

Homeporting of Four National Security Cutters at Alameda, CA; Environmental Assessment

AGENCY: Coast Guard, DHS.

ACTION: Notice of availability; request for comments.

SUMMARY: The Coast Guard (USCG) announces the availability of the draft Environmental Assessment (EA) for the homeporting of four National Security Cutters (NSCs) at Coast Guard Island (CGI), Alameda, California, and requests public comments. The draft EA tiers from the USCG's 2002 Final Programmatic Environmental Impact Statement (PEIS) for the Integrated Deepwater System (IDS) program. The purpose of the proposed action is to replace the four existing 378-foot High Endurance Cutters (WHECs) currently homeported at CGI with the NSCs. The USCG proposes to replace the WHECs on a one for one replacement schedule starting in 2007/2008 and continuing one per year until 2010/2011.

DATES: Comments and related material must reach the Docket Management Facility on or before January 8, 2007.

ADDRESSES: You may submit comments identified by Coast Guard docket number USCG-2006-26298 to the Docket Management Facility at the U.S. Department of Transportation. To avoid duplication, please use only one of the following methods:

(1) Web site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

Copies of the draft EA are also available at the Alameda Main Library, 2200-A Central Avenue, Alameda, CA 94501; and at the Oakland Public Library, 125 14th Street, Oakland, CA 94612.

FOR FURTHER INFORMATION CONTACT: If you have questions on this notice, the proposed action, or the associated draft EA, contact CDR Paul Boinay, Coast Guard, telephone 571-218-3382 or e-mail Paul.Boinay@dwicgs.com. If you have questions on viewing or submitting material to the docket, call Renee V. Wright, Program Manager, Docket Operations, telephone 202-493-0402.

SUPPLEMENTARY INFORMATION:

Public Participation and Request for Comments

We encourage you to submit comments and related material on the draft EA. All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice (USCG-2006-26298), and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period.

Viewing the comments and draft EA: To view the comments and draft EA, go to http://dms.dot.gov at any time, click on “Simple Search,” enter the last five digits of the docket number for this notice, and click on “Search.” You may also visit the Docket Management Facility in room PL-401 on the Plaza level of the Nassif Building, 400 Seventh Street, SW., Washington, DC, between 9 a.m. and 5 p.m., Monday through Friday, except Federal holidays. Copies of the draft EA are also available at the Alameda Main Library, 2200-A Central Avenue, Alameda, CA 94501; and at the Oakland Public Library, 125 14th Street, Oakland, CA 94612.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Proposed Action

To continue to meet America's 21st century maritime threats and challenges, the Coast Guard initiated the Integrated Deepwater System program, the largest and most innovative acquisition in the Coast Guard's history. The IDS will contribute to the Coast Guard's maritime domain awareness, as well as the improved ability to intercept, engage, and deter those activities that pose a direct challenge/threat to U.S. sovereignty and security. IDS will provide the means to extend our layered maritime defenses from our ports and coastal areas to hundreds of miles out to sea.

As part of the IDS program, the Coast Guard proposes a NSC homeporting plan that entails homeporting four NSCs, some pier improvements and a new administrative building at CGI in Alameda, California. The four NSCs would replace, on a one-for-one basis, the four aging 378-foot High-Endurance Cutters (WHECs) currently stationed in Alameda.

To accommodate the vessels and crew, in addition to the proposed homeporting, improvements to the existing waterfront pier and construction of a new administration building would be required at the existing base to provide adequate shore-side support.

Draft Environmental Assessment

We have prepared a draft EA. The draft EA identifies and examines the reasonable alternatives and assesses their potential environmental impact. The draft EA evaluates the potential direct, indirect and cumulative impacts associated with the NSC homeporting plan. The draft EA tiers from the USCG's Final PEIS for the IDS Program (see notice of availability, 67 FR 15275, Mar. 29, 2002).

Our preferred alternative is to homeport the four NSCs into an area where the necessary shore side infrastructure and port environment already exists to support this class and number of vessels. The existing base on CGI provides the shore support necessary to meet the logistical requirements of the four NSCs. This existing support includes secure facilities, easy access for Coast Guard personnel, administrative and support buildings and services, and required shore ties to service in-port cutters.

We are requesting your comments on the draft EA including environmental impacts and resources analyzed in the draft EA or possible sources of data or information not included in the draft EA. Your comments will be considered in preparing the final EA.

Dated: December 5, 2006.
Joseph E. Mihelic,
Chief of Deepwater Transition Management.

[FR Doc. E6-20935 Filed 12-7-06; 8:45 am]

BILLING CODE 4910-15-P